DEPARTMENT OF TRANSPORTATION

Coast Guard

33 CFR Part 167

[USCG-2001-11201]

Port Access Routes Study; Along the Sea Coast and in the Approaches to the Cape Fear River and Beaufort Inlet, North Carolina

AGENCY: Coast Guard, DOT.

ACTION: Notice of Study; correction.

SUMMARY: On January 18, 2002 the Coast Guard announced in a Federal Register notice of study and request for comments that we were conducting a Port Access Routes Study (PARS) to evaluate the need for vessel routing or other vessel traffic management measures along the sea coast of North Carolina and in the approaches to the Cape Fear River and Beaufort Inlet. In the Background and Purpose section of the preamble to the notice, we listed an incorrect expected completion date for the PARS as January 31, 2002. The purpose of this correction is to make clear that the comment period will continue until March 19, 2002, and that the PARS will be completed after a review and analysis of all comments and data collected.

DATES: Comments and related material must reach the Docket Management Facility on or before March 19, 2002.

ADDRESSES: To make sure that your comments and related material are not entered more than once in the docket, please submit them by only one of the following means:

(1) By mail to the Docket Management Facility (USCG-2001-11201), U.S. Department of Transportation, room PL-401, 400 Seventh Street SW., Washington, DC 20590-0001.

(2) By delivery to room PL-401 on the Plaza level of the Nassif Building, 400 Seventh Street SW., Washington, DC between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this document. Comments and material received from the public, as well as documents mentioned in this preamble as being available in the docket, will become part of this docket and will be available for inspection or copying at room PL-401 on the Plaza level of the Nassif Building, 400 Seventh Street SW., Washington, DC between 9 a.m. and 5 p.m., Monday through Friday, except Federal holidays. You may also find this docket on the Internet at http://dms.dot.gov.

FOR FURTHER INFORMATION CONTACT: If you have questions on this notice of study, call Tom Flynn, Project Officer, Aids to Navigation and Waterways Management Branch, Fifth Coast Guard District, telephone 757-398-6229, e-mail TWflynn@lantd5.uscg.mil; or George Detweiler, Office of Vessel Traffic Management, Coast Guard, telephone 202-267-0574, e-mail Gdetweiler@comdt.uscg.mil. If you have questions on viewing or submitting material to the docket, call Dorothy Beard, Chief, Dockets, Department of Transportation, telephone 202-366-5149.

SUPPLEMENTARY INFORMATION:

Request for Comments

We encourage you to participate in this study by submitting comments and related material. If you do so, please include your name and address, identify the docket number for this notice of study (USCG-2001-11201), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know that they reached the Facility, please enclose a stamped, self-addressed postcard or envelope. We will consider all comments and material received during the comment period.

Public Meeting

We do not now plan to hold a public meeting. But you may submit a request for one to the Docket Management Facility at the address under ADDRESSES explaining why one would be beneficial. If we determine that one would aid this study, we will hold one at a time and place announced by a later notice in the Federal Register.

Background and Purpose

On January 18, 2002, the Coast Guard published a notice in the Federal Register entitled “Port Access Routes Study; Along the Sea Coast and in the Approaches to the Cape Fear River and Beaufort Inlet, North Carolina” (67 FR 2616). In the preamble to the notice we indicated that the study would begin immediately and that we expected to complete the study by January 31, 2002. This incorrect study completion date was based on an earlier projected publishing date of the notice announcing the start of the Port Access Routes Study.

Need for Correction

The study will not be completed before the end of the comment period, which is March 19, 2002. We listed an earlier estimated completion date in the January 18, 2002, notice. The removal of this date is needed to accurately reflect that the study has not yet been completed and that the comment period will remain open until March 19, 2002.

Correction of Publication

In rule FR Doc. 02-1371 published on January 18, 2002, make the following correction: On page 2618, in the first column, starting on line 25, remove the phrase “and we anticipate the study will be completed by January 31, 2002”.

Dated: February 19, 2002.
Joseph J. Angelo,
Director of Standards, Marine Safety and Environmental Protection.

[FR Doc. 02-4632 Filed 2-26-02; 8:45 am]

BILLING CODE 4910-15-U